DEPARTMENT OF EDUCATION

Submission for OMB Review; Comment Request

AGENCY: Department of Education.

ACTION: Correction Notice.

SUMMARY: On July 16, 2008, the Department of Education published a comment period notice in the Federal Register (Page 40854, Column 1) for the information collection, “Study of Pell Grant Recipients Who Transfer Among Eligible Institutions.” This notice hereby corrects the invitation for comment period for interested persons to July 31, 2008. The IC Clearance Official, Regulatory Information Management Services, Office of Management, hereby issues a correction notice as required by the Paperwork Reduction Act of 1995.

Dated: July 17, 2008.
Angela C. Arrington,
IC Clearance Official, Regulatory Information Management Services, Office of Management.

[FR Doc. E8-16817 Filed 7-22-08; 8:45 am]

BILLING CODE 4000-01-P